DEPARTMENT OF TRANSPORTATION

Federal Aviation Administration

14 CFR Part 71

[Docket No. FAA-2022-1395 Airspace Docket No. 22-ACE-10]

RIN 2120-AA66

Amendment of Multiple Air Traffic Service (ATS) Routes and Revocation of a VOR Federal Airway in the Vicinity of Wolbach, NE

AGENCY: Federal Aviation Administration (FAA), DOT.

ACTION: Final rule.

SUMMARY: This action amends Jet Routes J-10, J-84, J-100, J-128, J-144, and J-197, Very High Frequency (VHF) Omnidirectional Range (VOR) Federal airways V-172 and V-380, and Area Navigation (RNAV) route T-288; and revokes VOR Federal airway V-219. The FAA is taking this action due to the planned decommissioning of the VOR portion of the Wolbach, NE (OBH), VOR/Tactical Air Navigation (VORTAC) navigational aid (NAVAID). The Wolbach VOR is being decommissioned in support of the FAA's VOR Minimum Operational Network (MON) program.

DATES: Effective date 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the ATS route structure as necessary to preserve the safe and efficient flow of air traffic within the National Airspace System.

History

The FAA published a notice of proposed rulemaking for Docket No. FAA-2022-1395 in the Federal Register (87 FR 71266; November 22, 2022), amending Jet Routes J-10, J-84, J-100, J-128, J-144, and J-197, VOR Federal airways V-172 and V-380, and RNAV route T-288; and revoking VOR Federal airway V-219 due to the planned decommissioning of the VOR portion of the Wolbach VORTAC NAVAID.

Differences From the NPRM

Subsequent to the NPRM publication, the FAA determined one route point listed in the RNAV route T-288 description could be removed without affecting the route's structure or alignment. The FESNT, NE, waypoint (WP) in the T-288 description does not denote a route turn point, does not have established holding requirements, and is not required due to PBN leg length maximum allowable distances being exceeded; therefore, it is not required in the description. This rule removes the FESNT, WP route point from the description of T-288 between the Ainsworth, NE, VOR/Distance Measuring Equipment (VOR/DME) and the ISTIQ, NE, WP route points.

Incorporation by Reference

Jet Routes are published in paragraph 2004, VOR Federal airways are published in paragraph 6010(a), and United States Area Navigation Routes (T-routes) are published in paragraph 6011 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending Jet Routes J-10, J-84, J-100, J-128, J-144, and J-197, VOR Federal airways V-172 and V-380, and RNAV route T-288; and revoking VOR Federal airway V-219 due to the planned decommissioning of the VOR portion of the Wolbach, NE, VORTAC. The ATS route actions are described below.

J-10: J-10 extends between the Los Angeles, CA, VORTAC and the Iowa City, IA, VOR/DME. The route segment overlying the Wolbach VORTAC between the North Platte, NE, VOR/DME and the Des Moines, IA, VORTAC is removed. As amended, the route extends between the Los Angeles VORTAC and the North Platte VOR/DME, and between the Des Moines VORTAC and the Iowa City VOR/DME.

J-84: J-84 extends between the Oakland, CA, VOR/DME and the Danville, IL, VORTAC. The route segment overlying the Wolbach VORTAC between the Sidney, NE, VOR/DME and the Dubuque, IA, VORTAC is removed. As amended, the route extends between the Oakland VOR/DME and the Sidney VOR/DME, and between the Dubuque VORTAC and the Danville VORTAC.

J-100: J-100 extends between the Los Angeles, CA, VORTAC and the Northbrook, IL, VORTAC. The route segment overlying the Wolbach VORTAC between the Sidney, NE, VOR/DME and the Dubuque, IA, VORTAC is removed. As amended, the route extends between the Los Angeles VORTAC and the Sidney VOR/DME, and between the Dubuque VORTAC and the Northbrook VORTAC.

J-128: J-128 extends between the Los Angeles, CA, VORTAC and the Northbrook, IL, VORTAC. The route segment overlying the Wolbach VORTAC between the Hayes Center, NE, VORTAC and the Dubuque, IA, VORTAC is removed. As amended, the route extends between the Los Angeles VORTAC and the Hayes Center VORTAC, and between the Dubuque VORTAC and the Northbrook VORTAC.

J-144: J-144 extends between the Wolbach, NE, VORTAC and the Dubuque, IA, VORTAC. The route segment overlying the Wolbach VORTAC between the Wolbach VORTAC and the Des Moines, IA, VORTAC is removed. As amended, the route extends between the Des Moines VORTAC and the Dubuque VORTAC.

J-197: J-197 extends between the Dove Creek, CO, VORTAC and the Sioux Falls, SD, VORTAC. The route segment overlying the Wolbach VORTAC between the Goodland, KS, VORTAC and Sioux Falls, SD, VORTAC is removed. As amended, the route extends between the Dove Creek VORTAC and the Goodland VORTAC.

V-172: V-172 extends between the North Platte, NE, VOR/DME and the DuPage, IL, VOR/DME. The airway segment overlying the Wolbach VORTAC between the North Platte, NE, VOR/DME and the Columbus, NE, VOR/DME is removed. As amended, the airway extends between the Columbus VOR/DME and the DuPage VOR/DME.

V-219: V-219 extends between the Hayes Center, NE, VORTAC and the Norfolk, NE, VOR/DME. The airway is removed in its entirety.

V-380: V-380 extends between the O'Neill, NE, VORTAC and the Mankato, KS, VORTAC. The airspace within the O'Neill Military Operations Area (MOA) is excluded when the MOA is activated by Notice to Air Missions (NOTAM). The airway segment overlying the Wolbach VORTAC between the O'Neill, NE, VORTAC and the Grand Island, NE, VOR/DME, and the airway exclusion is removed. As amended, the airway extends between the Grand Island VOR/DME and the Mankato VORTAC.

T-288: T-288 currently extends between the Gillette, WY, VOR/DME and the Wolbach, NE, VORTAC. The Wolbach VORTAC route point is replaced by the ISTIQ, NE, WP located 3 nautical miles northwest of the Wolbach VORTAC on RNAV route T-413. Additionally, the Rapid City, SD, VORTAC latitude/longitude geographic coordinates are updated to match the FAA's National Airspace System Resource database information. As amended, the route extends between the Gillette VOR/DME and the ISTIQ, WP.

All NAVAID radials listed in the ATS route descriptions below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Jet Routes J-10, J-84, J-100, J-128, J-144, and J-197, VOR Federal airways V-172 and V-380, and RNAV route T-288; and revoking VOR Federal airway V-219, due to the planned decommissioning of the VOR portion of the Wolbach, NE, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a which categorically excludes from further environmental impact review rulemaking actions that designate or modify classes of airspace areas, airways, routes, and reporting points (see 14 CFR part 71, Designation of Class A, B, C, D, and E Airspace Areas; Air Traffic Service Routes; and Reporting Points); paragraph 5-6.5(b), which categorically excludes from further environmental impact review actions regarding establishment of jet routes and Federal airways (see 14 CFR 71.15, Designation of jet routes and VOR Federal airways); operation of civil aircraft in a defense area, or to, within, or out of the United States through a designated Air Defense Identification Zone (ADIZ) (14 CFR part 99, Security Control of Air Traffic); authorizations for operation of moored balloons, moored kites, amateur rockets, and unmanned free balloons (see 14 CFR part 101, Moored Balloons, Kites, Amateur Rockets and Unmanned Free Balloons); and, authorizations of parachute jumping and inspection of parachute equipment (see 14 CFR part 105, Parachute Operations); paragraph 5-6.5i, which categorically excludes from further environment impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. For modifications to air traffic procedures at or above 3,000 feet AGL, the Noise Screening Tool (NST) or other FAA-approved environmental screening methodology should be applied; and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-10 [Amended]

From Los Angeles, CA; INT Los Angeles 083° and Twentynine Palms, CA, 269° radials; Twentynine Palms; INT Twentynine Palms 075° and Flagstaff, AZ, 251° radials; Flagstaff; Rattlesnake, NM; Blue Mesa, CO; Falcon, CO; to North Platte, NE. From Des Moines, IA; to Iowa City, IA.

* * * * *

J-84 [Amended]

From Oakland, CA; Linden, CA; Mina, NV; Delta, UT; Meeker, CO; to Sidney, NE. From Dubuque, IA; Northbrook, IL; to Danville, IL.

* * * * *

J-100 [Amended]

From Los Angeles, CA; Daggett, CA; Las Vegas, NV; INT of Las Vegas 046° and Bryce Canyon, UT, 240° radials; Bryce Canyon; Meeker, CO; to Sidney, NE. From Dubuque, IA; to Northbrook, IL.

* * * * *

J-128 [Amended]

From Los Angeles, CA; INT Los Angeles 083° and Peach Springs, AZ, 244° radials; Peach Springs; Tuba City, AZ; Blue Mesa, CO; Falcon, CO; to Hayes Center, NE. From Dubuque, IA; to Northbrook, IL.

* * * * *

J-144 [Amended]

From Des Moines, IA; to Dubuque, IA.

* * * * *

J-197 [Amended]

From Dove Creek, CO; Hugo, CO; to Goodland, KS.

* * * * *

Paragraph 6010(a) Domestic VOR Federal Airways.

* * * * *

V-172 [Amended]

From Columbus, NE; Omaha, IA; INT Omaha 066° and Newton, IA, 262° radials; Newton; Cedar Rapids, IA; Polo, IL; INT Polo 088° and DuPage, IL, 293° radials; to DuPage.

* * * * *

V-219 [Removed]

* * * * *

V-380 [Amended]

From Grand Island, NE; Hastings, NE; to Mankato, KS.

* * * * *

Paragraph 6011 United States Area Navigation Routes.

* * * * *

T-288 Gillette, WY (GCC) to ISTIQ, NE [Amended]
Gillette, WY (GCC) | VOR/DME | (Lat. 44°20′51.98″ N, long. 105°32′36.55″ W)
KARAS, WY | FIX | (Lat. 44°16′22.88″ N, long. 104°18′49.64″ W)
Rapid City, SD (RAP) | VORTAC | (Lat. 43°58′33.74″ N, long. 103°00′44.38″ W)
WNDED, SD | WP | (Lat. 43°19′14.00″ N, long. 101°32′19.00″ W)
Valentine, NE (VTN) | NDB | (Lat. 42°51′41.85″ N, long. 100°32′58.73″ W)
Ainsworth, NE (ANW) | VOR/DME | (Lat. 42°34′08.81″ N, long. 099°59′22.78″ W)
ISTIQ, NE | WP | (Lat. 41°24′52.04″ N, long. 098°24′18.89″ W)

* * * * *

Issued in Washington, DC, on March 20, 2023.
Brian Konie,
Acting Manager, Airspace Rules and Regulations.

[FR Doc. 2023-06101 Filed 3-24-23; 8:45 am]

BILLING CODE 4910-13-P